DEPARTMENT OF DEFENSE

GENERAL SERVICES ADMINISTRATION

NATIONAL AERONAUTICS AND SPACE ADMINISTRATION

48 CFR Chapter 1

Federal Acquisition Circular 97-20; Introduction

AGENCIES: Department of Defense (DoD), General Services Administration (GSA), and National Aeronautics and Space Administration (NASA).

ACTION: Summary presentation of final and interim rules.

SUMMARY: This document summarizes the Federal Acquisition Regulation (FAR) rules agreed to by the Civilian Agency Acquisition Council and the Defense Acquisition Regulations Council (Councils) in this Federal Acquisition Circular (FAC) 97-20. The Councils drafted these FAR rules using plain language in accordance with the White House memorandum, Plain Language in Government Writing, dated June 1, 1998. The Councils wrote all new and revised text using plain language. A companion document, the Small Entity Compliance Guide (SECG), follows this FAC. The FAC, including the SECG, is available via the Internet at http://www.arnet.gov/far.

DATES: For effective dates and comment dates, see separate documents which follow.

FOR FURTHER INFORMATION CONTACT: The FAR Secretariat, Room 4035, GS Building, Washington, DC 20405, (202) 501-4755, for information pertaining to status or publication schedules. For clarification of content, contact the analyst whose name appears in the table below in relation to each FAR case or subject area. Please cite FAC 97-20 and specific FAR case numbers. Interested parties may also visit our website at http://www.arnet.gov/far.

Item | Subject | FAR case | Analyst
I | Veterans Entrepreneurship and Small Business Development Act of 1999 | 2000-302 | Moss.
II | Truth in Negotiations Act Threshold | 2000-300 | Olson.

SUPPLEMENTARY INFORMATION: Summaries for each FAR rule follow. For the actual revisions and/or amendments to these FAR cases, refer to the specific item number and subject set forth in the documents following these item summaries.

Federal Acquisition Circular 97-20 amends the FAR as specified below:

Item I—Veterans Entrepreneurship and Small Business Development Act of 1999 (FAR Case 2000-302)

This interim rule amends the FAR to implement sections 501(c), 502(a)(2), and 604(d) of the Veterans Entrepreneurship and Small Business Development Act of 1999 (Pub. L. 106-50). This Act established new assistance programs for veterans and service-disabled veterans who own and operate small businesses. This interim rule—

• Defines the terms “veteran-owned small business concerns” and “service-disabled veteran-owned small business concerns;”

• Establishes that veteran-owned and service-disabled veteran-owned small businesses be afforded maximum practical opportunity to participate in the performance of contracts and subcontracts awarded by any Federal agency;

• Establishes a requirement to include a goal for veteran-owned small businesses in subcontracting plans under FAR 52.219-9; and

• Amends the SF 294 and SF 295 to add data collection requirements for subcontract awards to veteran-owned small businesses and service-disabled veteran-owned small business concerns.

Item II—Truth in Negotiations Act Threshold (FAR Case 2000-300)

This final rule amends FAR 15.403-4 to increase the threshold for obtaining cost or pricing data from $500,000 to $550,000. This implements the requirements of 10 U.S.C. 2306a(a)(7) and 41 U.S.C. 254b(a)(7). These statutes require review of the Truth in Negotiations Act threshold every 5 years, starting October 1, 1995.

Dated: October 3, 2000.
Al Matera,
Acting Director, Federal Acquisition Policy Division.

Federal Acquisition Circular

Federal Acquisition Circular (FAC) 97-20 is issued under the authority of the Secretary of Defense, the Administrator of General Services, and the Administrator for the National Aeronautics and Space Administration.

All Federal Acquisition Regulation (FAR) changes and other directive material contained in FAC 97-20 are effective October 11, 2000.

Dated: October 3, 2000.
Col. R.D. Kerrins, Jr., USA
Acting Director, Defense Procurement.
Dated: October 3, 2000.
David A. Drabkin,
Deputy Associate Administrator, Office of Acquisition Policy, General Services Administration.
Dated: October 2, 2000.
Tom Luedtke,
Associate Administrator for Procurement, National Aeronautics and Space Administration.

[FR Doc. 00-25873 Filed 10-10-00; 8:45 am]

BILLING CODE 6820-EP-P